GENERAL SERVICES ADMINISTRATION

[Notice-MA-2019-09; Docket No. 2019-0002; Sequence No. 26]

Federal Management Regulation (FMR); Sleeping in Federal Buildings

AGENCY: Office of Government-wide Policy (OGP), General Services Administration (GSA).

ACTION: Notice.

SUMMARY: This bulletin reaffirms that sleeping in buildings under the jurisdiction, custody or control of GSA, including those buildings delegated to other Federal agencies by the Administrator of General Services, is prohibited, except when expressly authorized by an agency official. Sleeping may be authorized if the person is directed by a supervisor to remain in the building to conduct official government business and it is necessary for the person to sleep on the premises or, in the case of an emergency where there is imminent danger to human life or property, where persons are directed to shelter-in-place.

DATES: Applicable: November 5, 2019.

FOR FURTHER INFORMATION CONTACT: Chris Coneeney, Director, Real Property Policy Division, Office of Government-wide Policy, GSA at 202-501-2956, or email realpropertypolicy@gsa.gov. Please cite FMR Bulletin B-49.

SUPPLEMENTARY INFORMATION: The Federal Management Regulation (FMR) does not specifically identify unauthorized sleeping as a type of prohibited conduct in subpart C of 41 CFR part 102-74. Instead, agency officials have relied on provisions in the FMR that address hazards, disturbances and failure to comply with the lawful direction of Federal police officers and other authorized individuals to prohibit the practice of unofficially sleeping in Federal buildings. Since GSA has received questions regarding the permissibility of sleeping in Federal buildings, and the FMR does not specifically address this conduct, GSA is issuing this bulletin to reaffirm the fact that all persons are prohibited from sleeping in Federal buildings, except when such activity is expressly authorized by an agency official. The Facility Manager will post this bulletin in a conspicuous place in the building so that all persons in the building have constructive or actual notice of the policy.

Jessica Salmoiraghi,
Associate Administrator, Office of Government-wide Policy.

[FR Doc. 2019-24102 Filed 11-4-19; 8:45 am]

BILLING CODE 6820-14-P